DEPARTMENT OF HOUSING AND URBAN DEVELOPMENT

[Docket No. FR-4572-D-14]

Order of Succession

AGENCY: Office of the Assistant Secretary for Public Affairs, HUD.

ACTION: Notice of Order of Succession.

SUMMARY: In this notice, the Deputy Secretary for the Department of Housing and Urban Development designates the Order of Succession for the Office of Public Affairs.

EFFECTIVE DATE: October 27, 2000.

FOR FURTHER INFORMATION CONTACT: Virginia Kelly Ackermen, Senior Attorney, Procurement and Administrative Law, Office of General Counsel, Department of Housing and Urban Development, Room 10180, 451 7th Street, SW, Washington, DC 20410, (202) 708-0622. (This is not a toll-free number.) This number may be accessed via TTY by calling the Federal Information Relay Service at 1-800-877-8339 (toll-free).

SUPPLEMENTARY INFORMATION: The Deputy Secretary for the Department of Housing and Urban Development is issuing this Order of Succession of officials authorized to perform the functions and duties of the Office of the Assistant Secretary for Public Affairs when, by reason of absence, disability, or vacancy in office, the Assistant Secretary is not available to exercise the powers or perform the duties of the office. This Order of Succession is subject to the provisions of the Federal Vacancies Reform Act of 1998, 5 U.S.C. 3345-3349d.

Accordingly, the Deputy Secretary designates the following Order of Succession:

Section A. Order of Succession

Subject to the provisions of the Federal Vacancies Reform Act of 1998, during any period when, by reason of absence, disability, or vacancy in office, the Assistant Secretary for Public Affairs is not available to exercise the powers or perform the duties of the Office of Assistant Secretary for Public Affairs, the following officials within the Office of Public Affairs are hereby designated to exercise the powers and perform the duties of the Office:

(1) Deputy Assistant Secretary for Public Affairs

(2) Deputy Assistant Secretary for Strategic Planning

(3) Director, Press Operations

(4) Senior Public Affairs Specialist, Managing Editor

These officials shall perform the functions and duties of the Office in the order specified herein, and no official shall serve unless all the other officials, whose position titles precede his/hers in this order, are unable to act by reason of absence, disability, or vacancy in office.

Authority: Section 7(d), Department of Housing and Urban Development Act, 42 U.S.C. Sec. 3535(d).

Dated: October 27, 2000.
Saul N. Ramirez, Jr.,
Deputy Secretary, Department of Housing and Urban Development.

[FR Doc. 00-28311 Filed 11-3-00; 8:45 am]

BILLING CODE 4210-01-M